DEPARTMENT OF HEALTH AND HUMAN SERVICES

Administration for Children and Families

Proposed Information Collection Activity; Comment Request Tribal Child Support Enforcement Annual Data Report (OMB #0970-0320)

AGENCY: Office of Child Support Enforcement; Administration for Children and Families; HHS.

ACTION: Request for public comment.

SUMMARY: The Office of Child Support Enforcement (OCSE), Administration for Children and Families (ACF), U.S. Department of Health and Human Services (HHS), is requesting a three-year extension of the form OCSE-75—Tribal Child Support Enforcement Annual Data Report (OMB # 0970-0320, expiration 03/31/2020). There are no changes requested to the form.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The data collected by form OCSE-75 are used to prepare the OCSE preliminary and annual data reports. In addition, Tribes administering CSE programs under Title IV-D of the Social Security Act are required to report program status and accomplishments in an annual narrative report and submit the OCSE-75 report annually.

Respondents: Tribal Child Support Enforcement Organizations or the Department/Agency/Bureau responsible for Child Support Enforcement in each tribe.

Annual Burden Estimates
Instrument | Annual number of respondents | Annual number of responses per respondent | Average burden hours per response | Annual burden hours
OCSE-75 | 60 | 1 | 60 | 3,600

Estimated Total Annual Burden Hours: 3,600.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-D of the Social Security ACT as required by CFR 45 Section 309.170(b).

Mary B. Jones,
ACF/OPRE Certifying Officer.

[FR Doc. 2019-17168 Filed 8-9-19; 8:45 am]

BILLING CODE 4184-41-P